DEPARTMENT OF ENERGY

Federal Energy Regulatory Commission

[Docket No. RP02-439-002]

CenterPoint Energy Gas Transmission Company; Notice of Compliance Filing

October 16, 2002.

Take notice that on October 10, 2002, CenterPoint Energy Gas Transmission Corporation (CEGT), formerly known as Reliant Energy Gas Transmission Company, tendered for filing as part of its FERC Gas Tariff, Fifth Revised Volume No. 1, the following revised tariff sheets to be effective on October 1, 2002:

First Revised Sheet No. 279

First Revised Sheet No. 280

First Revised Sheet No. 281

Substitute Original Sheet No. 293A

First Revised Sheet No. 300

First Revised Sheet No. 301

Substitute Third Revised Sheet No. 399

First Revised Sheet No. 400A

Second Substitute Fourth Revised Sheet No. 435

CEFT states that the purpose of this filing is to comply with the Commission's Letter Order regarding CEGT's filing to comply with Order No. 587-O.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26950 Filed 10-22-02; 8:45 am]

BILLING CODE 6717-01-P